GENERAL SERVICES ADMINISTRATION

[OMB Control No. 3090-00xx; Docket No. 2013-0001; Sequence 1]

Agency Information Collection Activities; Proposed Collection; Comment Request; MyGov

AGENCY: Office of Citizen Services; General Services Administration (GSA).

ACTION: Notice of a request for comments regarding a new generic information collection.

SUMMARY: Under the provisions of the Paperwork Reduction Act, this document announces that GSA is planning to submit a request for a new Information Collection Request (ICR) to the Office of Management and Budget (OMB). Before submitting this ICR to OMB for review and approval, GSA is soliciting comments on specific aspects of the proposed information collection as described below.

DATES: Submit comments on or before: April 12, 2013.

ADDRESSES: Submit comments identified by Information Collection 3090-00XX; MyGov by any of the following methods:

• Regulations.gov: http://www.regulations.gov.

Submit comments via the Federal eRulemaking portal by searching for “Information Collection 3090-00XX, MyGov”. Select the link “Submit a Comment” that corresponds with “3090-00XX, MyGov”. Follow the instructions provided at the “Submit a Comment” screen. Please include your name, company name (if any), and “Information Collection 3090-00XX, MyGov” on your attached document.

• Mail: General Services Administration, Regulatory Secretariat (MVCB), 1275 First Street NE., Washington, DC 20417. ATTN: Ms. Flowers/IC 3090-00XX, MyGov.

Instructions: Please submit comments only and cite “Information Collection 3090-00XX, MyGov”, in all correspondence related to this collection. All comments received will be posted without change to http://www.regulations.gov, including any personal and/or business confidential information provided.

FOR FURTHER INFORMATION CONTACT: Mr. Greg Gershman, Presidential Innovation Fellow, Project MyGov via email at gregory.gershman@gsa.gov or at telephone number 202-501-0705.

SUPPLEMENTARY INFORMATION:

What information is GSA particularly interested in?

Pursuant to section 3506(c)(2)(A) of the PRA, GSA specifically solicits comments and information to enable it to:

1. Evaluate whether the proposed collection of information is necessary for the proper performance of the functions of the Agency, including whether the information will have practical utility;

2. Evaluate the accuracy of the Agency's estimate of the burden of the proposed collection of information, including the validity of the methodology and assumptions used;

3. Enhance the quality, utility, and clarity of the information to be collected; and

4. Minimize the burden of the collection of information on those who are to respond, including through the use of appropriate automated electronic, mechanical, or other technological collection techniques or other forms of information technology, e.g., permitting electronic submission of responses.

What should I consider when I prepare my comments for GSA?

You may find the following suggestions helpful for preparing your comments.

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by GSA, be sure to identify the ICR title on the first page of your response. You may also provide the Federal Register citation.

What information collection activity or ICR does this apply to?

Title: MyGov.

OMB Control Number: 3090-00XX.

Abstract: MyGov is a citizen-centric platform for delivering government services. Rather than organizing services around the agencies that deliver them as we do today and forcing citizens to absorb the complexity of modern government, MyGov organizes services around people, specific tasks at all levels of government. Specifically, MyGov consists of four distinct components:

Platform—The MyGov profile, which serves to enable a consistent experience from transaction to transaction is a basic user persona, consists of limited information such as name, address, and basic preferences, which then provides agencies with the ability to create task-based workflows for users. The MyGov profile is completely optional. Additionally, MyGov notifications enable agencies to sustain communication with MyGov account holders over time. Through an administrative interface, agencies can send users simple messages and alerts. For example “Your online form submission to change your name has been approved” or, “Stay tuned to FEMA.gov for Hurricane updates.” Users may be notified via their MyGov dashboard, discovery bar, email or text message, depending on their MyGov preferences.

Applications—MyGov is architected as a series of applications built on an open platform, not unlike a Facebook or iPhone app. Apps are explicitly granted permission by the user, and have access to limited information (such as a user's email, if authorized). Apps maintain their own data, and interact with the platform through a series of Application Programming Interfaces (APIs). APIs allow the desperate applications to securely communicate with one another. Although initially limited to government, apps can be created by the public sector or private sector.

Forms—The MyGov forms engine allows agencies to quickly and easily move existing information collections (which are currently transacted as PDFs or other offline process) to the Web, or to streamline the creation of new, Web-based services. The forms engine exists as a service independent of the MyGov profile and is not dissimilar to Google forms, Survey Monkey, or Wufoo.

Discovery—The MyGov discovery bar and widgets are tools that agencies can embed into existing Web pages to help citizens discover services and information relevant to their interests and needs. Similar to Netflix recommending movies you may enjoy, or Amazon informing you that “customers who bought this product also bought”, the discovery tools seek to allow online resources to be grouped around citizen-centric tasks and transactions, rather than the agencies that maintain them.

Burden Statement: The annual public reporting and recordkeeping burden for this collection of information is estimated to average less than one hour per year. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The estimated annual burden request is summarized here:

Affected entities: citizens seeking a more intuitive way to utilize existing government services.

Estimated number of respondents: 20,000.

Frequency of response: 1.

Total number of responses: 20,000.

Estimated hours per response: .5.

Estimated total annual burden hours: 10,000.

What is the next step in the process for this ICR?

GSA will consider the comments received and amend the ICR as appropriate. The final ICR package will then be submitted to OMB for review and approval pursuant to 5 CFR 1320.12. At that time, GSA will issue another Federal Register notice pursuant to 5 CFR 1320.5(a)(1) to announce the submission of the ICR to OMB and the opportunity to submit additional comments to OMB.

If you have any questions about this ICR or the approval process, please contact the person listed under FOR FURTHER INFORMATION CONTACT.

Dated: February 5, 2013.
Casey Colemen,
Chief Information Officer.

[FR Doc. 2013-02977 Filed 2-8-13; 8:45 am]

BILLING CODE 6820-34-P